DEPARTMENT OF TRANSPORTATION

Federal Aviation Administration

Eleventh Meeting: RTCA Tactical Operations Committee (TOC)

AGENCY: Federal Aviation Administration (FAA), U.S. Department of Transportation (DOT).

ACTION: Notice of Eleventh RTCA Tactical Operations Committee Meeting.

SUMMARY: The FAA is issuing this notice to advise the public of the Eleventh RTCA Tactical Operations Committee meeting.

DATES: The meeting will be held November 12th from 9:00 a.m.-4:00 p.m.

ADDRESSES: The meeting will be held at RTCA, Inc., 1150 18th Street NW., Suite 910, Washington, DC 20036, Tel: (202) 330-0655.

FOR FURTHER INFORMATION CONTACT: The RTCA Secretariat, 1150 18th Street NW., Suite 910, Washington, DC 20036, or by telephone at (202) 833-9339, fax at (202) 833-9434, or Web site at http://www.rtca.org or Trin Mitra, TOC Secretary, RTCA, Inc., tmitra@rtca.org, (202) 330-0655.

SUPPLEMENTARY INFORMATION: Pursuant to section 10(a)(2) of the Federal Advisory Committee Act (Pub. L. 92-463, 5 U.S.C., App.), notice is hereby given for a meeting of RTCA Tactical Operations Committee. The agenda will include the following:

Thursday, November 12, 2015

1. Opening of Meeting/Introduction of TOC Members—Co Chairs Dale Wright and Bryan Quigley

2. Official Statement of Designated Federal Official—Elizabeth Ray

3. Approval of July 21, 2015 Meeting Summary

4. FAA Update—Elizabeth Ray

5. Recommendation on Final NOTAM Search Implementation

6. Update and Draft Recommendations from Airport Construction Task Group

7. Update and Draft Recommendations from National Procedure Assessment Task Group

8. FAA Response to Previous TOC Recommendations: Caribbean Operations, GPS Adjacent Band Compatibility and Class B Airspace

9. Status Update from Regional Task Groups

10. Update on the NextGen Advisory Committee (NAC)

11. Update on the VOR Minimum Operating Network (MON) Program

12. Anticipated Issues for TOC consideration and action at the next meeting

13. Other Business

14. Adjourn

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Dated: Issued in Washington, DC, on October 19, 2015.
Latasha Robinson,
Management & Program Analyst, Next Generation, Enterprise Support Services Division, Federal Aviation Administration.

[FR Doc. 2015-26865 Filed 10-21-15; 8:45 am]

BILLING CODE 4910-13-P